BUREAU OF CONSUMER FINANCIAL PROTECTION

12 CFR Part 1013

[Docket No. CFPB-2011-0026]

RIN 3170-AA06

Consumer Leasing (Regulation M); Correction

AGENCY: Bureau of Consumer Financial Protection.

ACTION: Interim final rule; correction.

SUMMARY: The Bureau of Consumer Financial Protection (Bureau) is correcting an interim final rule that appeared in the Federal Register of December 19, 2011 (76 FR 78500). The interim final rule established a new Regulation M (Consumer Leasing) in accordance with the transfer of rulemaking authority for the Consumer Leasing Act of 1976 (CLA) from the Board of Governors of the Federal Reserve System to the Bureau under Title X of the Dodd-Frank Wall Street Reform and Consumer Protection Act.¹

¹ Section 1066 of the Dodd-Frank Act grants the Secretary of the Treasury interim authority to perform certain functions of the Bureau. Pursuant to that authority, Treasury is publishing this interim final rule on behalf of the Bureau.

DATES: Effective December 30, 2011.

FOR FURTHER INFORMATION CONTACT: Courtney Jean or Priscilla Walton-Fein, Office of Regulations, at (202) 435-7700.

SUPPLEMENTARY INFORMATION: In the interim final rule (FR Doc. 2011-31723) appearing on page 78500 in the Federal Register of Monday, December 19, 2011, the following correction is made:

Supplement I to Part 1013 [Corrected]

1. On page 78514, in the first column, after the sixth full paragraph, insert the following: “iii. From January 1, 2012 through December 31, 2012, the threshold amount is $51,800.”

Heidi Cohen,
Senior Counsel for Regulatory Affairs, Department of the Treasury.

[FR Doc. 2011-33354 Filed 12-28-11; 8:45 am]

BILLING CODE 4810-AM-P